DEPARTMENT OF COMMERCE

National Oceanic and Atmospheric Administration

RIN 0648-XJ61

Atlantic Striped Bass Conservation Act; Atlantic Coastal Fisheries Cooperative Management Act; Magnuson-Stevens Fishery Conservation and Management Act; Executive Order 13449; Protection of Striped Bass and Red Drum Populations

AGENCY: National Marine Fisheries Service (NMFS), National Oceanic and Atmospheric Administration (NOAA), Commerce.

ACTION: Notice of agency finding.

SUMMARY: This notice announces that NMFS has determined that the regulatory requirements of Executive Order (E.O.) 13449, “Protection of Striped Bass and Red Drum Fish Populations” are fulfilled. The E.O. authorized the Secretary of Commerce to revise regulations as appropriate, to include the prohibition of sale of striped bass and red drum caught within the U.S. exclusive economic zone (EEZ) of the Atlantic Ocean and the Gulf of Mexico. Upon review of existing regulations, NMFS has determined that current prohibitions on the possession and sale of striped bass and red drum caught in the EEZ achieve the intent of the E.O., thus no further action is warranted at this time.

ADDRESSES: Questions regarding this notice may be directed to: Alan Risenhoover, Director, Office of Sustainable Fisheries, 1315 East-West Highway, Silver Spring, MD 20910. Mark the outside envelope, “Red Drum and Striped Bass.” Copies of the E.O. are available online at: http://www.nmfs.noaa.gov/sfa/state_federal/regulatory_activities.htm.

FOR FURTHER INFORMATION CONTACT: Alan Risenhoover, 301-713-2334.

SUPPLEMENTARY INFORMATION:

Background

On October 20, 2007, the President signed E.O. 13449, which states it is the policy of the United States to conserve striped bass and red drum for the recreational, economic, and environmental benefit, based on sound science and in cooperation with State, territorial, local, and tribal governments. The E.O. contains a provision calling on the Secretary of Commerce to revise current regulations, as appropriate, to include a prohibition of sale of striped bass and red drum caught within the EEZ of the Atlantic and Gulf of Mexico. Striped bass and red drum are managed under the authorities of Magnuson-Stevens Fishery Conservation and Management Act (Magnuson-Stevens Act) and the provisions of the Atlantic Coastal Fisheries Cooperative Management Act (Atlantic Coastal Act) and the Atlantic Striped Bass Conservation Act (Striped Bass Act). At present, striped bass regulations at 50 CFR 697.7(b) already prohibit anyone from fishing for, harvesting, or possessing Atlantic striped bass in the EEZ, with the exception for possession of Atlantic striped bass near Block Island Sound, RI, and Montauk Point, NY (§ 697.7(b)(3)). Similarly, red drum regulations at 50 CFR 622.32(b)(2)(iii) (for red drum in the Gulf of Mexico), and § 697.7(f) (for red drum in the Atlantic Ocean, regulations which were formerly located at § 622.32(b)(3) and § 622.32(b)(4)(iii)) also prohibit harvest and possession of red drum from the EEZ. In addition to these species specific prohibitions, the general prohibitions at 50 CFR 600.725(a) state that it is unlawful to offer for sale or sell any fish taken or retained in violation of the Magnuson-Stevens Act or any other statute administered by NOAA.

NMFS published a final rule on October 6, 2008 (73 FR 58059) repealing the Atlantic Coast Red Drum Fishery Management Plan and transferring management authority of Atlantic red drum in the EEZ from the South Atlantic Fishery Management Council, under the Magnuson-Stevens Act to the Atlantic States Marine Fisheries Commission, under the Atlantic Coastal Act. Under this final rule, the current prohibitions remain in effect in a different section of the Code of Federal Regulations. Thus, this notice does not impact the final rule, nor are findings of this notice changed as a result of the final rule.

Findings

NMFS has determined that the current prohibitions on the possession of striped bass and red drum caught in the EEZ, in concert with the prohibition on sale of fish taken in violation of statutes administered by NOAA, constitutes fulfillment of the requirements of E.O. 13449.

Authority: 16 U.S.C. 1801 et seq.

Dated: October 10, 2008.
Samuel D. Rauch III,
Deputy Assistant Administrator For Regulatory Programs, National Marine Fisheries Service.

[FR Doc. E8-24795 Filed 10-16-08; 8:45 am]

BILLING CODE 3510-22-S